FEDERAL RESERVE SYSTEM

Formations of, Acquisitions by, and Mergers of Bank Holding Companies; Correction

This notice corrects a notice (FR Doc. 00-18323) published on pages 45081 and 45082 of the issue for Thursday, July 20, 2000.

Under the Federal Reserve Bank of New York heading, the entry for Caixa Geral De Depositos, S.A., Lisbon, Portugal, is revised to read as follows:

A. Federal Reserve Bank of New York (Betsy Buttrill White, Senior Vice President) 33 Liberty Street, New York, New York 10045-0001:

1. Caixa Geral De Depositos, S.A., Lisbon, Portugal; to retain approximately 8.8 percent of the outstanding voting shares of Banco Commercial Portugues, S.A., Oporto, Portugal and thereby indirectly acquire shares of BPABank, National Association, Newark, New Jersey.

Under the Federal Reserve Bank of San Francisco heading, the entry for Wells Fargo & Company, San Francisco, California, is revised to read as follows:

B. Federal Reserve Bank of San Francisco (Maria Villanueva, Consumer Regulation Group) 101 Market Street, San Francisco, California 94105-1579:

1. Wells Fargo & Company, San Francisco, California; to acquire 100 percent of the voting shares of First Security Corporation, Salt Lake City, Utah, and thereby indirectly acquire voting shares of First Security Bank, N.A., Ogden, Utah; First Security Bank of New Mexico, N.A, Albuquerque, New Mexico; First Security Bank of Nevada, Las Vegas, Nevada; and First Security Bank of California, N.A., West Covina, California.

In connection with this application, Wells Fargo proposes to acquire the nonbanking subsidiaries of First Security Corporation, including First Security Mortgage Company, Salt Lake City, Utah, and thereby engage in lending activities pursuant to § 225.28(b)(1) of Regulation Y; First Security Leasing Company and Bankers Equipment Alliance, Inc., both of Salt Lake City, Utah, and thereby engage in leasing activities pursuant to § 225.28(b)(3) of Regulation Y; First Security Investment Services, Inc., and First Security Investment Management Inc., both of Salt Lake City, Utah, and thereby engage in investment and financial advisory activities pursuant to § 225.28(b)(6) of Regulation Y; First Security Specialized Services, Inc., Salt Lake City, Utah, and thereby engage in providing financial advisory and management consulting services pursuant to §§ 225.28(b)(6) and (9) of Regulation Y; First Security Life Insurance Company of Arizona, Phoenix, Arizona, and thereby engage in reinsuring credit-related insurance pursuant to § 225.28(b)(11)(i) of Regulation Y; and First Security Processing Services, Inc., Salt Lake City, Utah, and thereby engage in providing bankcard and ATM transaction services for other financial institutions pursuant to § 225.28(b)(14) of Regulation Y.

Comments on both these applications must be received by August 14, 2000.

Board of Governors of the Federal Reserve System, July 21, 2000.
Robert deV. Frierson,
Associate Secretary of the Board.

[FR Doc. 00-18927 Filed 7-25-00; 8:45 am]

BILLING CODE 6210-01-P